DEPARTMENT OF COMMERCE

National Oceanic and Atmospheric Administration

Proposed Information Collection; Comment Request; Northeast Region Gear Identification Requirements

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 9, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Lindsey Feldman, 978-275-2179 or Lindsey.Feldman@noaa.gov.

SUPPLEMENTARY INFORMATION:

I. Abstract

Under the Magnuson-Stevens Fishery Conservation and Management Act (MSA), the Secretary of Commerce (Secretary) has the responsibility for the conservation and management of marine fishery resources. Much of this responsibility has been delegated to the National Oceanic and Atmospheric Administration (NOAA)/National Marine Fisheries Service (NMFS). Under this stewardship role, the Secretary was given certain regulatory authorities to ensure the most beneficial uses of these resources. One of the regulatory steps taken to carry out the conservation and management objectives is to collect data from users of the resource.

Regulations at 50 CFR 648.84(a), (b), and (d), § 648.123(b)(3), § 648.144(b)(1), § 648.264(a)(5), and § 697.21(a) and (b) require that Federal fishing permit holders using specified fishing gear mark that gear with specified information for the purposes of identification (e.g., U.S. Coast Guard official vessel number, Federal permit number, or other methods identified in the regulations). The regulations also specify how the gear is to be marked for the purposes of visibility (e.g., buoys, radar reflectors, or other methods identified in the regulations). The number of gear in the case of longline, pots, and traps is not the number of hooks, pots, or traps, but rather the number of attached end lines associated with each string of hooks, pots, or traps. A single Federal permit holder may be responsible for marking several strings of a given type of gear, or may use multiple different gear types that require marking for identification and visibility. The display of the identifying characters on fishing gear aids in fishery law enforcement, and the marking of gear for visibility increases safety at sea.

II. Method of Collection

No information is submitted to the NMFS as a result of this collection. The vessel official number or other means of identification specified in the regulations must be affixed to the buoy or other marker specified in the regulations.

III. Data

OMB Control Number: 0648-0351.

Form Number: None.

Type of Review: Regular submission.

Affected Public: Individuals and households, business or other for-profit organizations.

Estimated Number of Respondents: 6,845.

Estimated Time per Response: 1 minute per string of gear.

Estimated Total Annual Burden Hours: 23,480.

Estimated Total Annual Cost to Public: $69,920 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 7, 2010.
Gwellnar Banks,
Management Analyst, Office of the Chief Information Officer.

[FR Doc. 2010-22613 Filed 9-9-10; 8:45 am]

BILLING CODE 3510-22-P